DEPARTMENT OF COMMERCE

National Oceanic and Atmospheric Administration

[RTID 0648-XR108]

Marine Mammals; File No. 23672

AGENCY: National Marine Fisheries Service (NMFS), National Oceanic and Atmospheric Administration (NOAA), Commerce.

ACTION: Notice; receipt of application.

SUMMARY: Notice is hereby given that Environmental Investigation Agency, P.O. Box 53343, Washington, DC 20009 (Responsible Party: Allan Thornton), has applied in due form for a permit to conduct commercial and educational photography on beluga whales (Delphinapterus leucas).

DATES: Written, telefaxed, or email comments must be received on or before April 22, 2020.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Courtney Smith, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant proposes to film beluga whales in Bristol Bay, Alaska for a short documentary to educate the public on the importance of protecting beluga whales and the threats that affect their populations. Filmmakers would photograph or film up to 500 beluga whales annually using an unmanned aircraft system. They may incidentally harass up to 10 minke whales (Balaenoptera acutorostrata), 500 harbor porpoise (Phocoena phocoena), 10 Dall's porpoises (Phocoenoides dalli), and 500 Pacific white-sided dolphins (Lagenorhynchus obliquidens) annually while filming. The permit would expire on December 1, 2021.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 18, 2020.
Julia Marie Harrison,
Chief, Permits and Conservation Division, Office of Protected Resources, National Marine Fisheries Service.

[FR Doc. 2020-06066 Filed 3-20-20; 8:45 am]

BILLING CODE 3510-22-P